DEPARTMENT OF THE INTERIOR

National Park Service

[NPS-WASO-NAGPRA-NPS0039817; PPWOCRADN0-PCU00RP14.R50000]

Notice of Inventory Completion: U.S. Department of the Interior, Bureau of Indian Affairs, Washington, DC, and U.S. Department of the Interior, Bureau of Reclamation, Upper Colorado Basin Region, Salt Lake City, UT

AGENCY: National Park Service, Interior.

ACTION: Notice.

SUMMARY: In accordance with the Native American Graves Protection and Repatriation Act (NAGPRA), the U.S. Department of the Interior, Bureau of Indian Affairs, Washington, DC (BIA), and U.S. Department of the Interior, Bureau of Reclamation, Upper Colorado Basin Region (Reclamation) have completed an inventory of human remains and associated funerary objects and have determined that there is a cultural affiliation between the human remains and associated funerary objects and Indian Tribes or Native Hawaiian organizations in this notice. The human remains and associated funerary objects were removed from the Glen Canyon area of San Juan County, Utah, and are in the custody of the Utah Museum of Natural History, University of Utah, Salt Lake City, Utah; and the Museum of Northern Arizona, Flagstaff, Arizona.

DATES: Repatriation of the human remains and associated funerary objects in this notice may occur on or after May 2, 2025.

ADDRESSES: Tamara Billie, U.S. Department of the Interior, Bureau of Indian Affairs, NAGPRA Manager, Bureau of Indian Affairs, 1001 Indian School Road NW, Mailbox 44, Albuquerque, NM 87104, telephone (505) 879-9711, email tamara.billie@bia.gov and Zachary Nelson, U.S. Department of the Interior, Bureau of Reclamation, Upper Colorado Basin Region, 125 South State Street, Room 8100, Salt Lake City, UT 84138, telephone (801) 379-1164, email znelson@usbr.gov.

SUPPLEMENTARY INFORMATION: This notice is published as part of the National Park Service's administrative responsibilities under NAGPRA. The determinations in this notice are the sole responsibility of the BIA and Reclamation, and additional information on the determinations in this notice, including the results of consultation, can be found in the inventory or related records. The National Park Service is not responsible for the determinations in this notice.

The 2019 Notices of Inventory Completion concerning human remains and associated funerary objects from Glen Canyon [84 FR 2922-2923, February 8, 2019, and 84 FR 2917-2918, February 8, 2019] should have acknowledged the deep and abiding connection Indian Tribes have to this place and their affiliation with the Ancestors from this area. Before publication, the following Indian Tribes shared with Reclamation information regarding their cultural affiliation with the Ancestors from this place: Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico, & Utah; Ohkay Owingeh, New Mexico; Paiute Indian Tribe of Utah (Cedar Band of Paiutes, Kanosh Band of Paiutes, Koosharem Band of Paiutes, Indian Peaks Band of Paiutes, and Shivwits Band of Paiutes); Pueblo of Jemez, New Mexico; Pueblo of Pojoaque, New Mexico; Pueblo of Santa Ana, New Mexico; Pueblo of Santa Clara, New Mexico; Pueblo of Zia, New Mexico; Southern Ute Indian Tribe of the Southern Ute Reservation, Colorado; Ute Mountain Ute Tribe; and the Zuni Tribe of the Zuni Reservation, New Mexico.

Abstract of Information Available

Human remains representing, at least, two individuals have been identified from site 42SA395 (Catfish Canyon) in San Juan County, Utah. The 18 associated funerary objects include, at minimum, two lots of cordage, knot; one lot of cradle pad; one lot of umbilical pad; one lot of enigmatic, hide, leather; one lot of textile, blanket fragment; one lot of hide clothing fragment; one lot of wood footrest; one lot of mat fragment; one lot of tool, wood, cradleboard; one lot of basketry/cradleboard; one lot of tool, wood, splint; one lot of cordage, knot; one lot of vegetal pad; one lot of feather necklace/cordage; one lot of textile, blanket; one lot of umbilical pad; and one lot of enigmatic, hide, leather fashioned into a hood. The University of Utah exhumed the individuals in 1958 as part of the Upper Colorado River Basin Archeological Survey Project (UCRBASP) during an excavation paid for by Reclamation on land managed by BIA.

Human remains representing, at least, one individual have been identified from site 42SA402 (NA7145, Lone Child Alcove) in San Juan County, Utah. The three associated funerary objects include at minimum, one lot of cradle board; one lot of textile fragments; and one lot of leather pouch. The Museum of Northern Arizona (MNA) exhumed the individual and associated funerary objects in 1959 as part of the UCRBASP during an excavation paid for by Reclamation on land managed by BIA.

Human remains representing, at least, four individuals have been identified from site NA7523 (Sand Dune Cave) in San Juan County, Utah. The 21 associated funerary objects include, at minimum, one lot of bone awl; one lot of worked antler; one lot of biface; one lot of bark bag; one lot of basketry fragment; one lot of deer hide; one lot of textile fragment; one lot of leather bag; one lot of faunal bone; one lot of shell ornament; one lot of fish scales; one lot of palette; one lot of faunal bone; one lot of projectile point; one lot of shell ornament; one lot of mano; one lot of worked bone; one lot of projectile point; one lot of stone pendant; one lot of mineral; and one lot of vegetal remains. MNA exhumed the individuals and associated funerary objects in 1961 as part of the UCRBASP during an excavation paid for by Reclamation on land managed by BIA.

Human remains representing, at least, one individual has been identified from site NA7658 (Charcoal Cave) in San Juan County, Utah. No associated funerary objects are present. MNA exhumed the individual in the 1950s as part of the UCRBASP during an excavation paid for by Reclamation on land managed by BIA.

Associated funerary objects were removed from a burial within site NA8639 in San Juan County, Utah. The three objects include, at minimum, one lot of a bowl; one lots of sherds; and one lot of flaked stone. MNA recovered this material in the 1960s as part of the UCRBASP during an excavation paid for by Reclamation on land managed by BIA.

Associated funerary objects were removed from a burial within site NA8641 in San Juan County, Utah. The four objects include, at minimum, one lot of a jar; one lot of a bowl; one lot of sherds; and one lot of flaked stone. MNA recovered this material in the 1960s as part of the UCRBASP during an excavation paid for by Reclamation on land managed by BIA.

Cultural Affiliation

Based on the information available and the results of consultation, cultural affiliation is clearly identified by the information available about the human remains and associated funerary objects described in this notice.

Determinations

The BIA and Reclamation have determined that:

• The human remains described in this notice represent the physical remains of at least eight individuals of Native American ancestry.

• The 49 objects, or lots of objects, described in this notice are reasonably believed to have been placed intentionally with or near individual human remains at the time of death or later as part of the death rite or ceremony.

• There is a reasonable connection between the human remains and associated funerary objects described in this notice and the Colorado River Indian Tribes of the Colorado River Indian Reservation, Arizona and California; Confederated Tribes of the Goshute Reservation, Nevada and Utah; Eastern Shoshone Tribe of the Wind River Reservation Wyoming; Fort Sill Apache Tribe of Oklahoma; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico & Utah; Northwestern Band of the Shoshone Nation; Ohkay Owingeh, New Mexico; Paiute Indian Tribe of Utah (Cedar Band of Paiutes, Kanosh Band of Paiutes, Koosharem Band of Paiutes, and Shivwits Band of Paiutes); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Juan Southern Paiute Tribe of Arizona; Santo Domingo Pueblo; Skull Valley Band of Goshute Indians of Utah; Southern Ute Indian Tribe of the Southern Ute Reservation, Colorado; Ute Indian Tribe of the Uintah & Ouray Reservation, Utah; Ute Mountain Ute Tribe; Yavapai-Apache Nation of the Camp Verde Indian Reservation, Arizona; Ysleta del Sur Pueblo; and the Zuni Tribe of the Zuni Reservation, New Mexico.

Requests for Repatriation

Written requests for repatriation of the human remains and associated funerary objects in this notice must be sent to the authorized representatives identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 2, 2025. If competing requests for repatriation are received, BIA and Reclamation must determine the most appropriate requestor prior to repatriation. Requests for joint repatriation of the human remains and associated funerary objects are considered a single request and not competing requests. BIA and Reclamation are responsible for sending a copy of this notice to the Indian Tribes and Native Hawaiian organizations identified in this notice.

Authority: Native American Graves Protection and Repatriation Act, 25 U.S.C. 3003, and the implementing regulations, 43 CFR 10.10.

Dated: March 21, 2025.
Melanie O'Brien,
Manager, National NAGPRA Program.

[FR Doc. 2025-05612 Filed 4-1-25; 8:45 am]

BILLING CODE 4312-52-P